DEPARTMENT OF DEFENSE

Office of the Secretary

Notification of Upcoming Meeting of the Defense Advisory Board for Employer Support of the Guard and Reserve (DAB-ESGR)

AGENCY: Department of Defense.

ACTION: Notice of open meeting.

SUMMARY: This notice announces a meeting of the Defense Advisory Board for Employer Support of the Guard and Reserve. This meeting will focus on the status of recruitment efforts for the Board and recommendations made at prior meetings. This meeting is open to the public.

DATES: September 18, 2008 (1300-1500 hrs).

ADDRESSES: McPherson Room, Hamilton Crowne Plaza, 14th and K Street, NW., Washington, DC 20005.

The public is asked to pre-register three weeks in advance of the meeting due to security and or seating limitations. (see below information for pre-registration).

FOR FURTHER INFORMATION CONTACT: Interested attendees may contact MAJ Elaine M. Gullotta at 703-696-1385 ext 540, or e-mail at elaine.gullotta@osd.mil.

SUPPLEMENTARY INFORMATION:

Agenda

1300 Convene, (Mr. James G. Rebholz, Chairman).

1305 Minutes approval, Status of Recommendation from last meeting (Mr. Rebholz, Mr. Patel).

1340 Review and discussion of DAB Nomination Outreach Efforts (Mr. Rebholz).

1420 Board Discussion, Due Outs-Subcommittee tasks (Mr. Rebholz).

1430 Summary of Proceedings, Administrative Announcements.

1440 Photographs (ESGR PAO Staff).

1500 Adjourn.

(a) Background

The purpose of the Board is to provide independent advice and recommendations to the Secretary of Defense on matters that arise from the military obligation of members of the National Guard and Reserve members and the impact on their civilian employment.

(b) Availability of Materials for the Meeting

Please see the Federal Advisory Committee Act Web site for copies of any available materials, including draft agendas for the meeting and background information. (http://www.fido.gov/facadatabase/form_meetings.asp).

(c) Procedures for Providing Public Comments

It is the policy of the DAB-ESGR to accept written public comments of any length, and to accommodate oral public comments whenever possible. To facilitate Board discussion at its meetings, the Board may not accept oral comments at all meetings, The Board Staff expect that public statements presented at Board meetings will be focused on the Board's statutory charter and any working group topics.

Oral Comments: Speaking times will be confirmed by Board staff on a “first-come/first-served basis. To accommodate as many speakers as possible, oral public comments must be no longer than 3 minutes. Because the Board members may ask questions, reserved times will be approximate. Interested parties must contact MAJ Elaine Gullotta in writing (via mail or e-mail) at least three weeks prior to the meeting.

Written Comments: Written comments should be received by the Board staff at least three weeks prior to the meeting date so that the comments may be made available to the Board for consideration prior to the meeting. Written comments should be supplied to MAJ Elaine Gullotta in one of the following formats (Word, PDF) via mail or e-mail at least three weeks prior to the meeting.

Please Note: The Board operates under the provisions of the Federal Advisory Committee Act, as amended. All public presentations will be treated as public documents and will be made available for public inspection, up to and including being posted on the Federal Advisory Committee Web site.

Written Comments may be sent to: Employer Support of the Guard and Reserve, 1555 Wilson Blvd., Suite 200, Arlington, VA 22209, Attention: MAJ Elaine Gullotta.

Dated: July 25, 2008.
Patricia L. Toppings,
OSD Federal Register Liaison Officer, Department of Defense.

[FR Doc. E8-17610 Filed 7-31-08; 8:45 am]

BILLING CODE 5001-06-P